DEPARTMENT OF JUSTICE

Notice of Lodging of Consent Decree Pursuant to the Clean Air Act

In accordance with 28 CFR 50.7, 38 FR 19029, notice is hereby given that on April 23, 2002, a Consent Decree was lodged with the United States District Court for the District of Massachusetts in United States v. Waste Management of Massachusetts, Inc., Civil Action No. 02-CV-10741-GAO. A complaint in the action was also filed simultaneously with the lodging of the Consent Decree. In the complaint the United States, on behalf of the U.S. Environmental Protection Agency (EPA), alleges that the defendant Waste Management of Massachusetts, Inc. (“WMMA”) failed to comply with section 601-618 of the Clean Air Act and regulations at 40 CFR Part 82, subpart F, in connection with its collection and handling of refuse and recyclables pursuant to a contract with the City of Boston, Massachusetts. The consent decree requires WMMA to pay a civil penalty of $775,000, and implement two Supplemental Environmental Projects at a combined cost of $2,671,000. The consent decree also requires WMMA to comply with sections 601 through 618 of the CAA and Subpart F with regard to the handling and disposal of appliances collected pursuant to its contract with the City of Boston. WMMA must also provide training to employees who are involved in tasks with respect to the handling of appliances that may contain refrigerant.

The Department of Justice will receive comments relating to the proposed Consent Decree for a period of thirty (30) days from the date of this publication. Comments should be addressed to the Assistant Attorney General, Environment and Natural Resources Division, Department of Justice, P.O. Box 7611, Washington, DC 20044, and should refer to United States v. Waste Management of Massachusetts, Inc., D.J. Ref.# 90-5-2-1-07045.

The proposed consent decree may be examined at the office of the United States Attorney, Suite 9200, 1 Courthouse Way, Boston, Massachusetts 02110, and at the Region I office of the Environmental Protection Agency, One Congress Street, Suite 1100, Boston, Massachusetts 02114. A copy of the proposed consent decree may also be obtained by mail from the Department of Justice Consent Decree Library, P.O. Box 7611, Washington, DC 20044. In requesting a copy, please enclose a check (there is a 25 cent per page reproduction cost) in the amount of $8.75 payable to the “United States Treasury.”

Ronald G. Gluck,
Assistant Chief, Environmental Enforcement Section, Environment & Natural Resources Division.

[FR Doc. 02-11545 Filed 5-8-02; 8:45 am]

BILLING CODE 4410-15-M